DEPARTMENT OF DEFENSE

Department of the Army; Corps of Engineers

Intent To Prepare a Draft Environmental Impact Statement/Environmental Impact Report (DEIS/EIR) for the Aliso Creek, Orange County, CA

AGENCY: Department of the Army, U.S. Army Corps of Engineers, DOD.

ACTION: Notice of intent.

SUMMARY: The purpose of the study is to evaluate an approximately 7-mile reach of the Aliso Creek and 1,000 feet of the Wood Canyon tributary to Aliso Creek located in Orange County in the Cities of Laguna Beach, Laguna Nigel, and Aliso Viejo, CA and unincorporated Orange County. Much of the 7-mile reach is located within the Aliso and Wood Canyons Wilderness Park, which is owned and managed by Orange County. The focus of the project will be on watershed improvements to restore the creek's dynamic function and habitat for endangered species by developing alternatives for ecosystem restoration for impacted reaches of the creek. The restoration project will focus on revitalization of the riparian vegetation community; establishment of an environmental corridor to benefit wildlife and sensitive species; creek stabilization, and addressing flood risk management. The 7-mile reach of Aliso Creek is located entirely within Orange County, CA.

DATES: Provide comments by May 10, 2009.

ADDRESSES: Submit comments to Deborah Lamb at U.S. Army Corps of Engineers, Los Angeles District, CESPL-PD-RL, P.O. Box 532711, Los Angeles, CA 90053-2325.

FOR FURTHER INFORMATION CONTACT: Deborah Lamb, Regional Planning Section at (213) 452-3798; fax (213) 452-4204 or e-mail at Deborah.L.Lamb@usace.army.mil

SUPPLEMENTARY INFORMATION:

1. Authorization. The proposed study is authorized by House Document No. 838, 76th Congress 3rd Session, dated May 1954, which reads as follows:

“Resolved by the Committee on Public Works of the House of Representatives, United States, that the Board of Engineers for Rivers and Harbors is hereby requested to review the reports on (a) San Gabriel River and Tributaries, published as House Document No. 838, 76th Congress, 3rd Session; and (b) Santa Ana River and Tributaries, published as House Document No. 135, 81st Congress, 1st Session; and (c) the project authorized by the Flood Control Act of 1936 for the protection of the metropolitan area in Orange County, with a view toward determining the advisability of modification of the authorized projects in the interest of flood control and related purposes.”

2. Background. Aliso Creek. While much of the Aliso Creek project area is within an Orange County wilderness park and within the Natural Communities Conservation Plan/Habitat Conservation Plan (NCCP/HCP) Nature Reserve of Orange County (NROC), the creek is in a highly urbanized area with a high population concentration. As such, Aliso Creek has numerous water resource issues related to both human actions and natural processes which have raised concerns about the long-term survival of the watershed ecosystem. Fundamental problems that have been identified include channel instability, degraded water quality, loss of fish and wildlife habitat, and flood damage. Since 1997, there has been a multi-jurisdictional effort to address problems within the Aliso Creek watershed. The Aliso Creek Watershed Management Feasibility Study, sponsored by the U.S. Army Corps of Engineers, Orange County, and municipalities and water districts within the Aliso Creek watershed boundary, was completed in July 1999. A wide range of technical studies have since been completed. Re-establishment of a healthy and sustainable watershed environment would serve to improve the environmental and economic conditions of the creek, including improving water quality, native habitat, and reducing flood damage.

Alternatives to be considered are those that will further reduce degradation of the creek and the riparian ecosystem, improve ground and surface water quality, and reduce adverse water quality impacts from runoff.

3. Scoping Process. a. A scoping meeting is scheduled for 7, May 2009, 6:30pm to 8:30pm at Mission Viejo City Council Chamber, 200 Civic Center Mission Viejo, CA 92691, (949) 470-3000.

For additional information on dates, times and locations please contact Deborah Lamb (see ADDRESSES), or at (213) 452-3798 or e-mail at: deborah.l.lamb@usace.army.mil.

Potential impacts associated with the proposed action will be evaluated. Resource categories that will be analyzed include: Physical environment, geology, biological resources, air quality, water quality, recreational usage, aesthetics, cultural resources, transportation, noise, hazardous waste, socioeconomics, safety, and sustainability.

b. Participation of affected Federal, state and local resource agencies, Native American groups and concerned interest groups/individuals is encouraged in the scoping process. Public participation will be especially important in defining the scope of analysis in the Draft EIS/EIR, identifying significant environmental issues and impact analysis of the Draft EIS/EIR and providing useful information such as published and unpublished data, personal knowledge of relevant issues and recommending mitigation measures associated with the proposed action.

c. Those interested in providing information or data relevant to the environmental or social impacts that should be included or considered in the environmental analysis can furnish this information by writing to the points of contact indicated above or by attending the public scoping meeting. A mailing list will also be established so pertinent data may be distributed to interested parties.

Dated: March 27, 2009.
Thomas H. Magness,
Colonel, U.S. Army, District Commander.

[FR Doc. E9-8107 Filed 4-8-09; 8:45 am]

BILLING CODE 3720-58-P